DEPARTMENT OF AGRICULTURE

Food and Nutrition Service

Agency Information Collection Activities: Proposed Collection; Comment Request—Food Stamp Program—Food Stamp Application for Meal Services (Form FNS-252-2) and New Addendum for Corporations (Form FNS-252-C)

AGENCY: Food and Nutrition Service, USDA.

ACTION: Notice and request for comments.

SUMMARY: USDA's Food and Nutrition Service (FNS) has revised its Food Stamp Program Application for Meal Services, Form FNS-252-2. The form was revised to make it easier to read and to simplify information collected from meal services during the application process. In addition, FNS has developed a new, abbreviated addendum to the revised retailer application for corporations (chain stores). We are soliciting public comments on the content, format and design of the revised Form FNS-252-2 and the new Form FNS-252-C. We will begin using both forms when the new Store Tracking and Redemption Subsystem (STARS II) is in operation, approximately the fourth quarter of 2004.

DATES: Written comments must be submitted on or before February 23, 2004.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information of those who are to respond, including the use of appropriate automated, electronic, mechanical, or other technological collection techniques or other forms of information technology.

Comments are invited on the content, format and design of the revised Form FNS-252-2, Food Stamp Program Application for Meal Services, and the addendum for corporations, Form FNS-252-C. Comments should be sent to Karen Walker, Chief, Retailer Management Branch, Benefit Redemption Division, Food and Nutrition Service, U.S. Department of Agriculture, 3101 Park Center Drive, Room 404, Alexandria, VA 22302; FAX number (703) 305-1863; E-mail: BRDHQ-WEB@fns.usda.gov. All submitted comments should refer to the title of this notice and/or the OMB approval number.

FOR FURTHER INFORMATION CONTACT: The public can download copies of the revised Form FNS-252-2 or Form FNS-252-C from the FNS public Web site at http://www.fns.usda.gov/fsp/retailers. Readers may also request copies of these forms, or make requests for additional information, by contacting Karen Walker at (703) 305-2418 or via e-mail at BRDHQ-WEB@fns.usda.gov. Requests submitted over e-mail should refer to the title of this notice and/or the OMB approval number in the subject line.

SUPPLEMENTARY INFORMATION: Title: Food Stamp Program: Food Stamp Program Application for Meal Services, Form FNS-252-2, and the new addendum to the revised retailer application for corporations, Form FNS-252-C.

OMB Number: 0584-0008.

Expiration Date: May 31, 2004.

Type of Request: Revision of a currently approved collection.

Abstract: Section 9 of the Food Stamp Act of 1977, as amended (7 U.S.C. 2018) requires retail food stores to submit applications to FNS for approval prior to participating in the Food Stamp Program. This includes meal services and corporations. FNS field offices review applications to ensure that the firm is eligible and then authorize or deny a firm to accept and redeem Food Stamp Program benefits.

Revised Meal Service Application (Form FNS-252-2)

We know many applicant meal services have submitted incomplete or erroneous applications to field offices. This may be attributed to the ambiguity of the current meal service application and the technical language used. It is our belief that a simpler Form FNS-252-2 will result in fewer mistakes upfront and will reduce the time it takes for a field office to process it. Meal services will also benefit from a simplified application because they will better understand what information is being asked of them initially, and it is more likely a meal service will submit a complete application the first time.

To begin the revision process for the meal service application, a workgroup of FNS regional and field office staff were charged with identifying areas where the current Form FNS-252-2 could be improved to reduce and streamline information collected on the application. While the revised Form FNS-252-2 has more pages than the current meal service application, it is a significant improvement over the current application in many ways. First, the language on the revised meal service application is clearer. We have provided applicants with a detailed explanation of the eligibility requirements for different types of meal services, specified which documentation is required for each type and asked better targeted questions. Secondly, we have increased the font size to aid in the readability of the form. Third, the form supports the President's E-GOV efforts and conforms to the requirements of the Government Paperwork Elimination Act (GPEA) (Pub. L. 105-277, 44 U.S.C. 3504) by making the form compatible with current technology; it can easily be converted into an online application. A few questions have also been added to enable us to better determine the business integrity of the applicant.

Addendum to Revised Retailer Application for Chain Stores (Form FNS-252-C)

Form FNS-252-C is a shortened version of the revised retailer application, Form FNS-252, which was described in the 60-day notice published in the Federal Register on January 2, 2003 at 68 FR 79. All chain stores that participate in the Food Stamp Program will benefit from using Form FNS-252-C because it eliminates the need for each store to complete its own application. Instead, the corporation only completes one retailer application (Form FNS-252) for all of its chain stores and an abbreviated Form FNS-252-C for each store. The retailer application, Form FNS-252, will collect information that is universal to all of the chain's stores while the addendum, Form FNS-252-C, will collect information that is unique to each store such as the location and telephone number. This is a tremendous timesaving, especially to large corporations as it takes an average of 27 minutes to complete one Form FNS-252 as compared to 5 minutes to complete one Form FNS-252-C.

STARS I is in the process of being upgraded to STARS II to meet the growing needs of the field offices. The FNS contractor who is developing STARS II has developed a screen in STARS II for the new Form FNS-252-C that corporations can access online and enter information on each store under the corporation. With the online version, the information provided on Form FNS-252-C can be uploaded directly into STARS II. As such, corporations can easily enter information for new stores or make updates on current stores on an as needed basis. In addition, we have developed a hard copy version of Form FNS-252-C for corporations that choose to submit a paper version to FNS. If a corporation submits a hard copy of Form FNS-252-C to the field office, field office staff will enter the data manually into STARS II.

Burden Estimates: As noted above, we will evaluate the revised Form FNS-252-2 and Form FNS-252-C on the appropriateness and clarity of the form's content, format and design. Before making final changes to these forms, we will consider feedback from the public. If the results of the evaluation are positive, we will finalize the revised Form FNS-252-2 and the addendum to the revised retailer application, Form FNS-252-C. We will begin using both forms when the new STARS II system is operational, approximately the fourth quarter of 2004. We will continue to use the current Form FNS-252-2 until we are ready to use the revised meal service application.

Reauthorization figures have not been calculated into the burden estimates for meal services and corporations because it is extremely rare that a meal service or corporation is asked to complete a new application at the time of reauthorization. Like traditional retail food stores, meal services and corporations are reauthorized at least once every five years. During the reauthorization process of these firms, however, information on the application is confirmed over the telephone or through some other means. Updates are then made by field office staff in the STARS database. Both meal services and corporations are routinely exempt from a visit prior to authorization and during reauthorization.

The burden associated with the revised Form FNS-252-2 has been determined from information available in the current STARS database on initial authorizations for meal services. We have used end-of-year Fiscal Year (FY) 2002 data as the base number for current estimates. Because of current economic conditions, we believe this number will increase or remain constant for the present year. We will use 219 as the base number for all newly authorized meal services. We have further increased this number by 3% (7) to account for meal service applications that are processed by field offices but are not authorized. As such, we expect to receive and process 226 initial meal service applications in the upcoming year.

The hourly burden rate per response for the current Form FNS-252-2, as approved by OMB, is 12 minutes. We estimate the burden rate per response for the revised meal service application to be an average of 11 minutes (.18 hour)—a reduction of one minute per response from the current meal service application. Hourly burden time per response varies and includes the time to review instructions, search existing data resources, gather and copy records, complete and review the application and submit the form and documentation to FNS. We estimate the burden rate per response for the addendum to the revised retailer application, Form FNS-252-C, to be an average of 5 minutes (.08 hour). According to end-of-year FY 2002 data, chain stores accounted for 12.8 percent of all authorized stores (146,423), but only 4 percent were new authorizations (750).

The estimated burden computation is provided below:

New Authorizations 226; Reauthorizations NA; Total Responses = 226. We estimate the annual burden hours to be 41 hours for the revised Form FNS-252-2. The computation is provided below:

FNS-252-2:

Affected Public: Meal service providers.

Estimated Number of Respondents: 226.

Estimated Annual Number of Responses Per Respondent: 1.

Estimated Total Annual Responses: 226.

Estimated Time Per Response: .18 hours.

Estimate of Burden: (226 × .18) = 41 hours.

We estimate the annual burden hours to be 60 hours for the addendum to the revised retailer application, Form FNS-252-C. The computation is provided below:

Addendum to Revised Retailer Application, Form FNS-252-C:

Affected Public: Retail food stores under a corporation.

Estimated Number of Respondents: 750.

Estimated Annual Number of Responses Per Respondent: 1.

Estimated Total Annual Responses: 750.

Estimated Time Per Response: .08 hours.

Estimate of Burden: (750 × .08) = 60 hours.

Estimated Total Annual Burden: (60 + 41) = 101 hours.

Dated: December 2, 2003.
Roberto Salazar,
Administrator, Food and Nutrition Service.

[FR Doc. 03-31685 Filed 12-23-03; 8:45 am]

BILLING CODE 3410-30-P